DEPARTMENT OF COMMERCE

National Oceanic and Atmospheric Administration

RIN 0648-XH061

Pacific Fishery Management Council; Public Meeting

AGENCY: National Marine Fisheries Service (NMFS), National Oceanic and Atmospheric Administration (NOAA), Commerce.

ACTION: Notice of public meetings.

SUMMARY: The Pacific Fishery Management Council's (Pacific Council) Southern Resident Killer Whale (SRKW) Workgroup (Workgroup) will convene two meetings, which are open to the public.

DATES: The first meeting, to be held via webinar, will convene on Tuesday, July 2, 2019, from 1 p.m. to 3 p.m. Pacific Daylight Time (PDT), or until business for the day has been completed.

The second meeting, to be held in person, will convene Tuesday, July 23, 2019, from 10 a.m. to 5 p.m. PDT, or until business for the day has been completed. It will continue on Wednesday, July 24, 2019, from 9 a.m. to 2 p.m. PDT, or until business for the day has been completed.

ADDRESSES: The July 2 meeting will be held via webinar. A public listening station is available at the Pacific Council office (address below). To attend the webinar (1) join the webinar by visiting this link https://www.gotomeeting.com/webinar (click “Join a Webinar” in top right corner of page), (2) enter the Webinar ID: 526-133-259, and (3) enter your name and email address (required). After logging in to the webinar, please (1) dial this TOLL number 1-914-614-3221 (not a toll-free number), (2) enter the attendee phone audio access code 294-147-773, and (3) enter the provided audio PIN after joining the webinar. You must enter this PIN for audio access. NOTE: We have disabled Mic/Speakers as an option and require all participants to use a telephone or cell phone to participate. Technical Information and system requirements: PC-based attendees are required to use Windows® 10, 8, 7, Vista, or XP; Mac®-based attendees are required to use Mac OS® X 10.5 or newer; Mobile attendees are required to use iPhone®, iPad®, Android™ phone or Android tablet (See https://www.gotomeeting.com/webinar/ipad-iphone-android-webinar-apps.) You may send an email to Ms. Sandra Krause at Sandra.Krause@noaa.gov or contact her at (503) 820-2280, extension 419 for technical assistance. A public listening station will also be available at the Pacific Council office.

Council address: Pacific Fishery Management Council, 7700 NE Ambassador Place, Suite 101, Portland, OR 97220.

The July 23-24 meeting will be held in the Hemlock/Oak Room at the Hilton Vancouver Hotel, 301 W Sixth Street, Vancouver, Washington 98660; telephone: (360) 993-4500.

FOR FURTHER INFORMATION CONTACT: Robin Ehlke, Pacific Council; telephone: (503) 820-2410.

SUPPLEMENTARY INFORMATION: July 2 (webinar)—The purpose of the webinar is to update all Workgroup members on relevant proceedings from the June 2019 Pacific Council meeting, and continue discussions on the data needs and progress in developing a draft risk analysis. The Workgroup may also discuss their work plan and progress made on assigned tasks related to the Workgroup's prime objective of reassessing the effects of Pacific Council-area ocean salmon fisheries on the Chinook salmon prey base of SRKW. This is a public meeting and not a public hearing. Public comments will be taken at the discretion of the Workgroup co-chairs as time allows.

July 23-24 (in-person)—The purpose of the meeting is to continue work on the draft risk analysis, and provide any updates or additional status information that may address data gaps and questions identified at the May 23-24, and the July 2, 2019 meetings. The Workgroup may also discuss their work plan and progress made on assigned tasks related to the Workgroup's prime objective of reassessing the effects of Pacific Council-area ocean salmon fisheries on the Chinook salmon prey base of SRKW. Additional topics of discussion may include, but are not limited to, the criteria and methodology developed to evaluate risk, and scoping of management/conservation tools may be included in the discussion if warranted. This is a public meeting and not a public hearing. Public comments will be taken at the discretion of the Workgroup co-chairs as time allows.

Background

At the March 2019 Pacific Council meeting, the National Marine Fisheries Service (NMFS) announced plans to reinitiate Endangered Species Act (ESA) consultation on the effect of Pacific Council-area ocean salmon fisheries on SRKW. NMFS and the Pacific Council agreed on a collaborative approach and began establishing work plans and a tentative schedule. At the April 2019 meeting, the Pacific Council formed the Workgroup to reassess the effects of Pacific Council-area ocean salmon fisheries on the Chinook salmon prey base of SRKW. A draft Terms of Reference was reviewed by the Pacific Council which describes the purpose of the Workgroup, a proposed timeline to accomplish this task, and a list of participants. Supporting documents can be found on the Pacific Council's website under the April 2019 Briefing Book (https://www.pcouncil.org/resources/archives/briefing-books/april-2019-briefing-book, Agenda Item F.3.a, Supplemental NMFS Report 1, April 2019 and Agenda Item D.6.a, Supplemental NMFS Report 1, April 2019). Materials presented during past Workgroup meetings may be found on the NMFS West Coast Regional website (https://www.fisheries.noaa.gov/west-coast/southern-resident-killer-whales-and-fisheries-interaction-workgroup).

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

These meetings are physically accessible to people with disabilities. Requests for sign language interpretation or other auxiliary aids should be directed to Ms. Sandra Krause, (503) 820-2419, at least 10 business days prior to the meeting date.

Dated: June 10, 2019.
Tracey L. Thompson,
Acting Deputy Director, Office of Sustainable Fisheries, National Marine Fisheries Service.

[FR Doc. 2019-12516 Filed 6-12-19; 8:45 am]

BILLING CODE 3510-22-P